DEPARTMENT OF ENERGY

Federal Energy Regulatory Commission

[Project No. 15348-000]

Turnagain Arm Tidal Energy Corporation; Notice of Effectiveness of Withdrawal of Preliminary Permit Application

On April 8, 2024, Turnagain Arm Tidal Energy Corporation (Turnagain) filed a preliminary permit application for the Unalga and Akutan Passes Tidal Project No. 15348. On June 5, 2024, Turnagain filed a notice of withdrawal of the preliminary permit application.

No motion in opposition to the notice of withdrawal has been filed, and the Commission has taken no action to disallow the withdrawal. Pursuant to Rule 216(b) of the Commission's Rules of Practice and Procedure,¹ the withdrawal of the preliminary permit application became effective on June 20, 2024, and this proceeding is hereby terminated.

¹ 18 CFR 385.216(b) (2023).

Dated: July 9, 2024.
Debbie-Anne A. Reese,
Acting Secretary.

[FR Doc. 2024-15526 Filed 7-15-24; 8:45 am]

BILLING CODE 6717-01-P